COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agency employing persons who are blind or have other severe disabilities.

DATES: Effective Date: 9/14/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/12/2015 (80 FR 33485-33489), the Committee for Purchase From People Who Are Blind or Severely Disabled published notice of proposed additions to the Procurement List.

After consideration of the material presented to it concerning capability of qualified nonprofit agencies to furnish the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the products to the Government.

2. The action will result in authorizing small entities to provide the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)/Product Name(s)

6650-00-NIB-0009—Complete Eyeglasses (frames and lenses). Clear plastic single vision eyewear frames and lenses. CR-39 lens material, single vision, plastic lens type. UOI is EA.

6650-00-NIB-0010—Complete Eyeglasses (frames and lenses). Clear plastic flat top 28 bifocal eyewear frames and lenses. CR-39 lens material, flat top 28, bifocal, clear lens type. UOI is EA.

6650-00-NIB-0011—35 bifocal eyewear frames and lenses. CR-39 lens material, flat top 35, bifocal, clear lens type. UOI is EA.

6650-00-NIB-0012—Complete Eyeglasses (frames and lenses). Clear plastic round 25 and round 28, eyewear frames and lenses. CR-39 lens material, round 25 and 28, clear lens type. UOI is EA.

6650-00-NIB-0013—Complete Eyeglasses (frames and lenses). Clear plastic flat top 7 x 28 eyewear frames and lenses. CR-39 lens material, flat top 7 x 28 clear lens type. UOI is EA.

6650-00-NIB-0014—Complete Eyeglasses (frames and lenses). Clear plastic flat top 8 x 35 eyewear frames and lenses. CR-39 lens material, flat top 8 x 35 clear lens type. UOI is EA.

6650-00-NIB-0015—Complete Eyeglasses (frames and lenses). Clear plastic progressives (VIP, Adaptar, Freedom, Image) eyewear frames and lenses. CR-39 lens material, progressives, clear lens type. UOI is EA.

6650-00-NIB-0016—Complete Eyeglasses (frames and lenses). Clear plastic lenticular aspheric single vision eyewear frames and lenses. CR-39 lens material, single vision aspheric lenticular lens material. UOI is EA.

6650-00-NIB-0017—Complete Eyeglasses (frames and lenses). Clear plastic flat top or round aspheric lenticular eyewear frames and lenses. CR-39 lens material, flat top or round aspheric lenticular lens type. UOI is EA.

6650-00-NIB-0018—Complete Eyeglasses (frames and lenses). Clear plastic executive bifocal eyewear frames and lenses. CR-39 lens material, executive bifocal clear lens type. UOI is EA.

6650-00-NIB-0019—Complete Eyeglasses (frames and lenses). Clear glass single vision eyewear frames and lenses. Glass lens material, single vision clear lens type. UOI is EA.

6650-00-NIB-0020—Complete Eyeglasses (frames and lenses). Clear glass flat top bifocal eyewear frames and lenses. Glass lens material, flat top 28 bifocal clear lens type. UOI is EA.

6650-00-NIB-0021—Complete Eyeglasses (frames and lenses). Clear glass flat top 35 bifocal eyewear frames and lenses. Glass lens material, flat top 35 bifocal clear lens type. UOI is EA.

6650-00-NIB-0022—Complete Eyeglasses (frames and lenses). Clear glass flat top 7 x 28 trifocal eyewear frames and lenses. Glass lens material, flat top 7 x 28 trifocal clear lens type. UOI is EA.

6650-00-NIB-0023—Complete Eyeglasses (frames and lenses). Clear glass flat top 8 x 35 trifocal eyewear frames and lenses. Glass lens material, flat top 8 x 35 trifocal clear lens type. UOI is EA.

6650-00-NIB-0024—Complete Eyeglasses (frames and lenses). Clear glass progressives (VIP, Adaptar, Freedom) eyewear frames and lenses. Glass lens material, progressive clear lens type. UOI is EA.

6650-00-NIB-0026—Complete Eyeglasses (frames and lenses). Clear single vision polycarbonate eyewear frames and lenses. Polycarbonate lens material, single vision clear lens type. UOI is EA.

6650-00-NIB-0027—Complete Eyeglasses (frames and lenses). Clear flat top 28 bifocal polycarbonate eyewear frames and lenses. Polycarbonate lens material, flat top 28 clear lens type. UOI is EA.

6650-00-NIB-0028—Complete Eyeglasses (frames and lenses). Clear flat top 35 polycarbonate eyewear frames and lenses. Polycarbonate lens material, flat top 35 clear lens type. UOI is EA.

6650-00-NIB-0029—Complete Eyeglasses (frames and lenses). Clear flat top 7 x 28 polycarbonate eyewear frames and lenses. Polycarbonate lens material, flat top 7 x 28 clear lens type. UOI is EA.

6650-00-NIB-0030—Complete Eyeglasses (frames and lenses). Clear flat top 8 x 35 polycarbonate eyewear frames and lenses. Polycarbonate lens material, flat top 8 x 35 clear lens type. UOI is EA.

6650-00-NIB-0031—Complete Eyeglasses (frames and lenses) Progressives (VIP, Adaptar, Freedom, Image) polycarbonate eyewear frames and lenses. Polycarbonate lens material, progressives, clear lens type. UOI is EA.

6650-00-NIB-0032—Lenses only, 1 pair of clear plastic single vision clear eyewear lenses. CR-39 lens material, single vision plastic clear lens type. UOI is EA.

6650-00-NIB-0033—Lenses only, 1 pair of clear plastic flat top 28 bifocal clear eyewear lenses. CR-39 lens material, flat top 28 bifocal clear lens type. UOI is EA.

6650-00-NIB-0034—Lenses only, 1 pair of clear plastic flat top 35 bifocal clear lenses. CR-39 lens material, flat top 35 bifocal clear lens type. UOI is EA.

6650-00-NIB-0035—Lenses only, 1 pair of clear plastic round 25 and round 28 clear lenses. CR-39 lens material, Round 25 and 28 clear lens type. UOI is EA.

6650-00-NIB-0036—Lenses only, 1 pair of clear plastic flat top 7 x 28 trifocal clear lenses. CR-39 lens material, flat top 7 x 28 clear lens type. UOI is EA.

6650-00-NIB-0037—Lenses only, 1 pair of clear plastic flat top 8 x 35 trifocal clear lenses. CR-39 lens material, flat top 8 x 35 clear lens type. UOI is EA.

6650-00-NIB-0038—Lenses only, 1 pair of clear plastic progressives (VIP, Adaptar, Freedom, Image) lenses. CR-39 lens material, progressive, clear lens type. UOI is EA.

6650-00-NIB-0039—Lenses only, 1 pair of clear plastic single vision aspheric lenticular lenses. CR-39 lens material, single vision aspheric lenticular lens type. UOI is EA.

6650-00-NIB-0040—Lenses only, 1 pair of clear plastic flat top or round aspheric lenticular lenses. CR-39 lens material, flat top or round aspheric lenticular lens type. UOI is EA.

6650-00-NIB-0041—Lenses only, 1 pair of clear plastic executive bifocal lenses. CR-39 lens material, executive bi-focal clear lens type. UOI is EA.

6650-00-NIB-0042—Lenses only, 1 pair of clear glass single vision lenses. Glass lens material, single vision clear lens type. UOI is EA.

6650-00-NIB-0043—Lenses only, 1 pair of clear glass bifocal flat top 28 lenses. Glass lens material, Flat Top 28, bifocal, clear lens type. UOI is EA.

6650-00-NIB-0044—Lenses only, 1 pair of clear glass bifocal flat top 35 eyewear lenses. Glass lens material, Flat Top 35, bifocal, clear lens type. UOI is EA.

6650-00-NIB-0045—Lenses only, 1 pair of clear glass trifocal flat top 7 x 28 lenses. Glass lens material, Flat Top 7 x 28, trifocal, clear lens type. UOI is EA.

6650-00-NIB-0046—Lenses only, 1 pair of clear glass trifocal flat top 8 x 35 lenses. Glass lens material, Flat Top 8 x 35, trifocal, clear lens type. UOI is EA.

6650-00-NIB-0047—Lenses only, 1 pair of clear glass progressives (VIP, Adaptar, Freedom) lenses. Glass lens material, progressive, clear lens type. UOI is EA.

6650-00-NIB-0049—Lenses only, 1 pair of clear polycarbonate single vision lenses. Polycarbonate lens material, single vision lens type. UOI is EA.

6650-00-NIB-0050—Lenses only, 1 pair of clear polycarbonate flat top 28 eyewear lenses. Polycarbonate lens material, flat top 28 clear lens type. UOI is EA.

6650-00-NIB-0051—Lenses only, 1 pair of clear polycarbonate bifocal flat top 35 lenses. Polycarbonate lens material, flat top 35 clear lens type. UOI is EA.

6650-00-NIB-0052—Lenses only, 1 pair of clear polycarbonate trifocal flat top 7 x 28 lenses. Polycarbonate lens material, flat top 7 x 28, clear lens type. UOI is EA.

6650-00-NIB-0053—Lenses only, 1 pair of clear polycarbonate trifocal flat top 8 x 35 lenses. Polycarbonate lens material, flat top 8 x 35, clear lens type. UOI is EA.

6650-00-NIB-0054—Lenses only, 1 pair of polycarbonate progressives (VIP, Adaptar, Freedom, Image) lenses. Polycarbonate lens material, progressives, clear lens type. UOI is EA.

6650-00-NIB-0055—Plastic transition tints and coating. CR-39 or polycarbonate lens material; Single vision or multi-focal lens type. UOI is EA.

6650-00-NIB-0056—Photochromatic/transition (Polycarbonate material) tints and coating. Polycarbonate lens material; Single vision or multifocal lens type. UOI is EA.

6650-00-NIB-0057—Photogrey tints and coating. Glass lens material. Single vision or multi-focal lens type. UoI is EA.

6650-00-NIB-0058—High index transition tints and coating. CR-39 lens material. Single vision or multi-focal lens type. UOI is EA.

6650-00-NIB-0059—Anti-reflective coating. CR-39 or polycarbonate lens material; Single vision or multi-focal lens type. UOI is EA.

6650-00-NIB-0060—Ultraviolet coating. CR-39 lens material; Single vision or multifocal lens type. UOI is EA.

6650-00-NIB-0061—CR-39 lens material. (single vision) tints and coating for polarized lenses. Single vision or multi-focal lens type. UOI is EA.

6650-00-NIB-0062—Lens add-on. CR-39 or polycarbonate lens material. Single vision or multi-focal lens type. UOI is EA.

6650-00-NIB-0063—Lens add-on. High index lens material. Single vision or multifocal lens type. UOI is EA.

6650-00-NIB-0064—Lens add-on. Prism (up to 6 diopters no charge) >6 diopters/per diopter. CR-39 or polycarb lens material. UOI is EA.

6650-00-NIB-0065—Lens add-on. Diopter + or − 9.0 and above. CR-39 lens material. UOI is EA.

6650-00-NIB-0066—Lens add-on. Oversize eye lenses greater than 58 excluding progressive. Roll and polish edge; CR-39 lens material and polycarbonate lens type. UOI is EA.

6650-00-NIB-0067—Lens add-on. Hyper 3 drop single vision. CR-39 lens material; Multi-focal lens type. UOI is EA.

6650-00-NIB-0068—Lens add-on. Add powers over 4.0. CR-39 lens material; Multifocal lens type. UOI is EA.

6650-00-NIB-0069—Metal or plastic eyeglass frame without the lenses. Frame only. UOI is EA.

Mandatory for: 100% of the requirement of the Department of Veteran's Affairs (VA) Orlando VA Medical Center; Viera VA Outpatient Clinic, Viera, FL and William V. Chappell, Jr. VA Outpatient Clinic, Daytona Beach, FL.

Mandatory Source of Supply: Winston-Salem Industries for the Blind, Inc., Winston-Salem, NC.

Contracting Activity: Department of Veterans Affairs, 248-Network Contract Office 8, Hines, IL.

Distribution: C-List.

Barry S. Lineback,
Director, Business Operations.

[FR Doc. 2015-20106 Filed 8-13-15; 8:45 am]

BILLING CODE 6353-01-P